DEPARTMENT OF HEALTH AND HUMAN SERVICES

National Institutes of Health

Draft NTP Technical Reports on Prenatal Developmental Toxicity Studies; Availability of Documents; Request for Comments; Notice of Peer-Review Meeting

Correction

In notice document 2019-11463 beginning on page 25552 in the issue of Monday, June 3, 2019, make the following correction:

1. On page 25552, in the second column, in the first paragraph, in the ninth line “https://ntp.niehs.gov/go/36051” should read “https://ntp.niehs.nih.gov/go/36051”.

2. On the same page, in the same column, under DATES, under Document Availability, in the third line “https://ntp.niehs.gov/go/36051” should read “https://ntp.niehs.nih.gov/go/36051”.

3. On the same page, under ADDRESSES, under Meeting web page, in the fourth line “https://ntp.niehs.gov/go/36051” should read “https://ntp.niehs.nih.gov/go/36051”.

4. On the same page, in the same column, under SUPPLEMENTARY INFORMATION, in the 14th and 16th lines line “https://ntp.niehs.gov/go/36051” should read “https://ntp.niehs.nih.gov/go/36051”.

5. On the same page, in the third column, in the third paragraph, in the seventh line “https://ntp.niehs.gov/go/36051” should read “https://ntp.niehs.nih.gov/go/36051”.

6. On the same page, in the same column, in the fourth paragraph, in the 10th line “https://ntp.niehs.gov/go/36051” should read “https://ntp.niehs.nih.gov/go/36051”.

7. On the same page, in the same column, in the sixth paragraph, in the fourth line “https://ntp.niehs.gov/go/36051” should read “https://ntp.niehs.nih.gov/go/36051”.

[FR Doc. C1-2019-11463 Filed 6-6-19; 8:45 am]

BILLING CODE 1301-00-D